SECURITIES AND EXCHANGE COMMISSION

[File No. 500-1]

Astralis Ltd., Cavit Sciences, Inc., Crystal International Travel Group, Inc., and Tasker Products Corp.; Order of Suspension of Trading

September 7, 2011.

It appears to the Securities and Exchange Commission that there is a lack of current and accurate information concerning the securities of Astralis Ltd. because it has not filed any periodic reports since the period ended September 30, 2007.

It appears to the Securities and Exchange Commission that there is a lack of current and accurate information concerning the securities of Cavit Sciences, Inc. because it has not filed any periodic reports since the period ended September 30, 2008.

It appears to the Securities and Exchange Commission that there is a lack of current and accurate information concerning the securities of Crystal International Travel Group, Inc. because it has not filed any periodic reports since the period ended July 31, 2007.

It appears to the Securities and Exchange Commission that there is a lack of current and accurate information concerning the securities of Tasker Products Corp. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. E.D.T. on September 7, 2011 through 11:59 p.m. E.D.T. on September 20, 2011.

By the Commission.
Elizabeth M. Murphy,
Secretary.

[FR Doc. 2011-23233 Filed 9-7-11; 4:15 pm]

BILLING CODE 8011-01-P